DEPARTMENT OF TRANSPORTATION

Federal Aviation Administration

14 CFR Part 71

[Airspace Docket No. 99-ACE-51]

Amendment to Class E Airspace; Marshall, MO: Correction

AGENCY: Federal Aviation Administration, DOT.

ACTION: Direct final rule; confirmation of effective date and corrections.

SUMMARY: This document confirms the effective date of a direct final rule which revises the Class E airspace at Marshall, MO, and corrects an error in the coordinates for the Marshall Memorial Municipal Airport, Airport Reference Point (ARP) as published in the Federal Register January 12, 2000 (65 FR 1774), Airspace Docket No. 99-ACE-51.

DATES: The direct final rule published at 65 FR 1774 is effective on 0901 UTC, April 20, 2000. This correction is effective on April 20, 2000.

FOR FURTHER INFORMATION CONTACT: Brenda Mumper, Air Traffic Division, Airspace Branch, ACE-520A, DOT Regional Headquarters Building, Federal Aviation Administration, 901 Locust, Kansas City, MO 64106; telephone: (816 329-2524.

SUPPLEMENTARY INFORMATION:

History

On January 12, 2000, The FAA published in the Federal Register a direct final rule; request for comments which revises the Class E airspace at Marshall, MO (FR document 00-582, 65 FR 1774, Airspace Docket No. 99-ACE-51). An error was subsequently discovered in the coordinates for the Marshall Memorial Municipal airport ARP. This action corrects that error. After careful review of all available information related to the subject presented above, the FAA has determined that air safety and the public interest require adoption of the rule. The FAA has determined that this correction will not change the meaning of the action nor add any additional burden on the public beyond that already published. This action corrects the error in the coordinates of the Marshall Memorial Municipal Airport ARP and confirms the effective date to the direct final rule.

The FAA uses the direct final rulemaking procedure for a non-controversial rule where the FAA believes that there will be no adverse public comment. This direct final rule advised the public that no adverse comments were anticipated, and that unless a written adverse comment, or a written notice of intent to submit such an adverse comment, were received within the comment period, the regulation would become effective on April 20, 2000. No adverse comments were received, and thus this notice confirms that this direct final rule will become effective on that date.

Correction to the Direct Final Rule

Accordingly, pursuant to the authority delegated to me, coordinates for the Marshall Memorial Municipal Airport ARP as published in the Federal Register on January 12, 2000 (65 FR 1774), (Federal Register Document 00-782; page 1775, column three) are corrected as follows:

§ 71.1 [Corrected]

ACE MO 35 Marshall, MO [Corrected]

On page 1775, in the third column, after Marshall Memorial Municipal Airport, MO, correct the coordinates by removing (lat. 39°05′44″N., long. 93°12′02″W.) and substituting (lat. 39°05′45′N., long. 93°12′14″W.)

Issued in Kansas City, MO on February 28, 2000.
Herman J. Lyons, Jr.
Manager, Air Traffic Division, Central Region.

[FR Doc. 00-5953 Filed 3-9-00; 8:45 am]

BILLING CODE 4910-13-M